DEPARTMENT OF COMMERCE

International Trade Administration

[A-549-813]

Canned Pineapple Fruit From Thailand; Final Results of Full Sunset Review of Antidumping Duty Order

AGENCY: Import Administration, International Trade Administration, Department of Commerce.

ACTION: Notice of final results of full sunset review: Canned pineapple fruit from Thailand.

SUMMARY: On September 29, 2000, the Department of Commerce (“the Department”) published a notice of preliminary results of the full sunset review of the antidumping duty order on Canned Pineapple Fruit from Thailand (65 FR 58509) pursuant to section 751(c) of the Tariff Act of 1930, as amended (“the Act”). We provided interested parties an opportunity to comment on our preliminary results. We received comments only from the domestic interested parties. As a result of this review, the Department finds that revocation of this order would be likely to lead to continuation or recurrence of dumping.

EFFECTIVE DATE: February 2, 2001.

FOR FURTHER INFORMATION CONTACT: Jonathan Lyons or James Maeder, Office of Policy for Import Administration, International Trade Administration, U.S. Department of Commerce, 14th Street and Constitution Avenue, NW., Washington, DC 20230; telephone: (202) 482-0374 or (202) 482-3330, respectively.

SUPPLEMENTARY INFORMATION:

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR part 351 (2000) in general. Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On June 5, 2000, the Department initiated a sunset review of the antidumping duty order on CPF from Thailand (65 FR 35604), pursuant to section 751(c) of the Act. On September 29, 2000, the Department published a notice of preliminary results of the full sunset review of the antidumping duty order on canned pineapple fruit from Thailand (65 FR 58509) pursuant to section 751(c) of the Act. In our preliminary results, we found that revocation of the order would likely result in continuation or recurrence of dumping with net margins of 1.73 percent for The Dole Food Company, Inc., and its affiliates Dole Packaged Foods Company and Dole Thailand, Inc. (collectively, “Dole”); 38.68 percent for The Thai Pineapple Public Co., Ltd. (“TIPCO”); 51.16 percent for Siam Agro Industry Pineapple and Others Co., Ltd. (“SAICO”); 41.74 percent for Malee Sampran Factory Public Co., Ltd. (“Malee”); and 24.64 percent for “all others.”

On November 8, 2000, within the deadline specified in 19 CFR 351.309(c)(1)(i), we received a case brief on behalf of the domestic industry.

Scope of Review

The product covered by this review is CPF from Thailand. CPF is defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, our written description of the scope is dispositive.

Analysis of Comments Received

All issues raised in the case and rebuttal briefs by parties to this sunset review are addressed in the “Issues and Decision Memorandum” (“Decision Memo”) from Jeffrey A. May, Director, Office of Policy, Import Administration, to Bernard T. Carreau, fulfilling the duties of Assistant Secretary for Import Administration, dated January 26, 2001, which is hereby adopted by this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce building.

In addition, a complete version of the Decision Memo can be accessed directly on the Web at http://ia.ita.doc.gov/frn, under the heading “Thailand.” The paper copy and electronic version of the Decision Memo are identical in content.

Final Results of Review

We determine that revocation of the antidumping duty order on CPF from Thailand would be likely to lead to continuation or recurrence of dumping at the following percentage weighted-average margins:

Manufacturer/exporters | Margin (percent)
Dole | 1.73
TIPCO | 38.68
SAICO | 51.16
Malee | 41.74
All Others | 24.64

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction. This five-year (“sunset”) review and notice are in accordance with sections 751(c), 752, and 777(i)(1) of the Act.

Dated: January 26, 2001.
Bernard T. Carreau,
Fulfilling the duties of Assistant Secretary for Import Administration.

[FR Doc. 01-2794 Filed 2-01-01; 8:45 am]

BILLING CODE 3510-DS-P